INTERNATIONAL TRADE COMMISSION

[Investigation No. 731-TA-1443 (Final)]

Carbon and Alloy Steel Threaded Rod From Taiwan; Supplemental Schedule for the Final Phase of an Anti-Dumping Duty Investigation

AGENCY: United States International Trade Commission.

ACTION: Notice.

DATES: December 10, 2019.

FOR FURTHER INFORMATION CONTACT: Kristina Lara ((202) 205-3386), Office of Investigations, U.S. International Trade Commission, 500 E Street SW, Washington, DC 20436. Hearing-impaired persons can obtain information on this matter by contacting the Commission's TDD terminal on (202) 205-1810. Persons with mobility impairments who will need special assistance in gaining access to the Commission should contact the Office of the Secretary at (202) 205-2000. General information concerning the Commission may also be obtained by accessing its internet server (https://www.usitc.gov). The public record for these investigations may be viewed on the Commission's electronic docket (EDIS) at https://edis.usitc.gov.

SUPPLEMENTARY INFORMATION: Effective August 7, 2019, the Commission established a general schedule for the conduct of the final phase of its investigations on carbon and alloy steel threaded rod (“threaded rod”) from China, India, Taiwan, and Thailand,¹ following a preliminary determination by the U.S. Department of Commerce (“Commerce”) that imports of threaded rod from Thailand were being sold at less than fair value (LTFV) in the United States.² Notice of the scheduling of the final phase of the Commission's investigations and of a public hearing to be held in connection therewith was given by posting copies of the notice in the Office of the Secretary, U.S. International Trade Commission, Washington, DC, and by publishing the notice in the Federal Register of August 27, 2019 (84 FR 44916). The hearing was held in Washington, DC, on October 15, 2019, and all persons who requested the opportunity were permitted to appear in person or by counsel. On October 21, 2019, Commerce issued a final affirmative determination of sales at LTFV and critical circumstances with respect to imports of threaded rod from Thailand.³ The Commission issued its final affirmative determination regarding LTFV imports of threaded rod from Thailand on December 5, 2019.

¹ 84 FR 44916, August 27, 2019.

² 84 FR 38597, August 7, 2019.

³ 84 FR 56162, October 21, 2019.

On December 9, 2019, Commerce issued its final affirmative determination that imports of threaded rod from Taiwan were being sold at LTFV in the United States.⁴ Accordingly, the Commission currently is issuing a supplemental schedule for its antidumping investigation on imports of threaded rod from Taiwan.

⁴ 84 FR 67258, December 9, 2019.

This supplemental schedule is as follows: The deadline for filing supplemental party comments on Commerce's final antidumping duty determination is December 17, 2019. Supplemental party comments may address only Commerce's final antidumping duty determination regarding imports of threaded rod from Taiwan. These supplemental final comments may not contain new factual information and may not exceed five (5) pages in length. The supplemental staff report in the final phase of this investigation regarding subject imports from Taiwan will be placed in the nonpublic record on January 3, 2019; and a public version will be issued thereafter.

For further information concerning this investigation see the Commission's notice cited above and the Commission's Rules of Practice and Procedure, part 201, subparts A and B (19 CFR part 201), and part 207, subparts A and C (19 CFR part 207).

Additional written submissions to the Commission, including requests pursuant to section 201.12 of the Commission's rules, shall not be accepted unless good cause is shown for accepting such submissions, or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

Authority: This investigation is being conducted under authority of title VII of the Tariff Act of 1930; this notice is published pursuant to section 207.21 of the Commission's rules.

By order of the Commission.
Issued: December 10, 2019.
Lisa Barton,
Secretary to the Commission.

[FR Doc. 2019-26975 Filed 12-13-19; 8:45 am]

BILLING CODE 7020-02-P